DEPARTMENT OF DEFENSE

Department of the Navy

Notice of Availability for Donation of the Test Craft Ex-SEA SHADOW (IX 529) and the Hughes Mining Barge (HMB-1)

AGENCY: Department of the Navy, DoD.

ACTION: Notice.

SUMMARY: The Department of the Navy (DoN) hereby gives notice of the availability for donation, under the authority of 10 U.S.C. 7306, of the test craft ex-SEA SHADOW (IX 529) and the Hughes Mining Barge (HMB-1), both located at the Maritime Administration's Suisun Bay National Defense Reserve Fleet, Benicia, CA. Availability for donation was previously announced in a Federal Register Notice of Availability dated September 14, 2006. DoN is revising the requirement to display both ex-SEA SHADOW and the HMB-1 either individually or together as a single unit as a static museum/memorial. This notice cancels and supersedes the Federal Register Notice of Availability dated September 14, 2006, in Vol. 71, No. 178, of the Federal Register.

Ex-SEA SHADOW is contained inside HMB-1, which is a covered floating dry-dock, and is being offered for donation as a single unit. The donee may display the two vessels as currently configured as a single unit, or display only ex-SEA SHADOW as a public museum and reactivate the HMB-1 for commercial use. The Navy will consider applications from municipalities and eligible U.S. non-profit organizations (the lead organization) who have partnered with industry. The lead organization must agree to display ex-SEA SHADOW as a static public museum. The lead organization may propose to further transfer the HMB-1 to an industry partner for reactivation for commercial purposes. The DoN intends to donate the two vessels as a single unit to the lead organization who must remove the two vessels from DoN custody as a unit.

DATES: The deadline for submission of a Letter of Intent and Executive Summary is sixty (60) days from the date of this notice.

SUPPLEMENTARY INFORMATION: Under the authority of 10 U.S.C. 7306, eligible recipients for the transfer of a vessel for donation include: (1) Any State, Commonwealth, or possession of the United States or any municipal corporation or political subdivision thereof; (2) the District of Columbia; or (3) any not-for-profit or nonprofit entity.

The transfer of a vessel for donation under 10 U.S.C. 7306 shall be at no cost to the United States Government.

The donee will be required to maintain ex-SEA SHADOW as a static display in a condition that is satisfactory to the Secretary of the Navy.

The Navy has revised its ship donation application process, which applies to ex-SEA SHADOW and HMB-1. Phase I documentation consists of a Letter of Intent and an Executive Summary which must be submitted within sixty (60) days of a Federal Register notice. The Navy will provide written notification to those whose Phase I documentation is acceptable to submit Phase II documentation consisting of Business/Financial and Environmental plans, within twelve (12) months of such notice. The Navy will provide written notification to those whose Phase II documentation is acceptable to submit Phase III documentation consisting of Towing, Mooring, Maintenance, and Curatorial/Museum plans, within six (6) months of such notice. Applicants who fail to meet the minimum requirements at any phase may be disqualified from participating in the next phase of this ship donation opportunity.

Actions Required: Within sixty (60) days of this Federal Register notice, applicants must complete and submit Phase I documentation for ex-SEA SHADOW/HMB-1, consisting of a Letter of Intent and Executive Summary. The minimum requirements are identified herein. Applicants are advised to take special notice of page length limitations for Phase I documentation.

Phase I of the ship donation application process must include the following documentation addressing the following areas:

a. Letter of Intent: The Letter of Intent must include the following:

(1) Identify the specific vessels sought for donation (Ex-SEA SHADOW (IX 539) and HMB-1);

(2) Include a statement that the vessel(s) will be used as a static public display as a museum or memorial without activating any system aboard the vessel(s) for the purpose of navigation or movement of the vessel. If an alternative use for HMB-1 is proposed, identify its proposed use;

(3) Identify the proposed permanent berthing location for vessel(s) used as a static public display, identify the current property owner of the proposed permanent berthing location, and provide evidence from the current property owner of its intent to make the proposed permanent berthing location available to the applicant;

(4) Include a statement that the applicant understands and agrees that it will be solely responsible to obtain, repair, and maintain the vessel(s) used as a static public display at its own expense, in a condition satisfactory to the Secretary of the Navy, in compliance with all Federal, State, and local laws, that no expense shall be incurred by the United States Government, and that the applicant will not seek financing from the United States Government;

(5) Include a statement that the applicant understands and agrees to take delivery of the vessels in an “as is/where is” condition, and assume all costs associated with the vessel's removal from Navy custody, including, but not limited to, towing, insurance, berthing, restoration, maintenance and repair, periodic dry-docking, and, ultimately, ship dismantling in the United States;

(6) Include a statement that the applicant will not use the vessel(s) used as a static public display other than as stated, or destroy, transfer, or otherwise dispose of such vessel(s) or any artifacts without the written approval of the Secretary of the Navy or his designee;

(7) Include a statement that the applicant will agree to indemnify, hold harmless, and defend the government from and against all claims, demands, actions, liabilities, judgment costs, and attorney's fees, arising out of, claimed on account of, or in any manner predicated upon personal injury, death, or property damage caused by or resulting from possession and/or use of the donated property;

(8) If the applicant is not a State, Commonwealth, or possession of the United States, or a political subdivision or municipal corporation thereof, or the District of Columbia, the applicant must provide a copy of a determination letter by the Internal Revenue Service that the applicant is exempt from tax under the Internal Revenue Code, Section 501(c)(3), or submit evidence that the applicant has filed the appropriate documentation in order to obtain tax exempt status;

(9) If the applicant asserts that it is a corporation or an association whose charter or articles of agreement deny it the right to operate for profit, the applicant must provide a properly notarized copy of its charter, a certificate of incorporation, and a copy of the organization's by-laws;

(10) Provide a notarized copy of the resolution or other action of the applicant's governing board authorizing the person signing the Letter of Intent to represent the organization and to sign on its behalf for the purpose of obtaining the vessels;

(11) Provide a signed copy of the Assurance of Compliance Form in compliance with Title VI of the Civil Rights Act of 1964. See the Ship Donation Web page for the Civil Rights Compliance (Assurance of Compliance) Form located at this link: http://teamships.crane.navy.mil/Inactiveships/Donation/pdf/material_donation_pdfs/civil_rights_act_of_1964_compliance_form.pdf;

b. Executive Summary: The applicant shall limit the Executive Summary submission to eleven (11) pages total. The Executive Summary must address the following:

(1) Organizational Description: Provide an overview of the applicant's organizational structure, functional components, and names of current key leadership and staff positions;

(2) Market Analysis: Summarize the local and regional market demand for additional museum/memorial attractions. Succinctly define the target market. Discuss the available demographic information, the existing competition in the local and regional area for visitor museum/memorial attractions, visitor attendance numbers for existing area museum/memorial attractions, and projected visitor attendance for the applicant's proposal;

(3) Marketing and Sales Outreach: Outline the overarching marketing strategy for integrating the proposed ship museum/memorial into the local and regional community, and how the applicant plans to penetrate that market. Provide an overview of customer and market analysis, marketing communications, and sales strategies;

(4) Museum/Memorial Services Assessment: Discuss the benefits the proposed ship museum/memorial will offer to visitors/customers and the community. Identify challenges anticipated in establishing a new ship museum/memorial. Cite available data/evidence regarding the willingness of a defined customer base to pay for the services being offered;

(5) Funding: Provide a Rough Order of Magnitude (ROM) cost estimate that the applicant anticipates will be required to cover all costs associated with the acquisition/start-up costs of the proposed ship donation transfer, including mooring, towing, environmental surveys and cleanup, dredging, museum development, maintenance, refurbishment of the vessel(s) to be used as a static public display, pier, insurance, legal services, etc. Separately provide a ROM cost estimate of the annual operational and support costs of the proposed ship museum/memorial. In addition, provide a ROM cost estimate of the applicant's cost of dismantling the vessel in the United States upon completion of its use as a museum/memorial or in the event of bankruptcy or inability to properly maintain the vessel(s) to be used as a static public display. If HMB-1 is proposed to be reactivated for commercial use, demonstrate how the HMB-1 will be economically viable;

(6) Financial: Provide a summary of projected sources of income to support both the acquisition/start-up costs and the annual operational and support costs for the vessel(s) used as a static public display;

(7) Environmental: Discuss the challenges anticipated in meeting the environmental requirements regarding hazardous materials, maintenance of polychlorinated biphenyls (PCB) containing materials, endangered species, dredging disposal, and required environmental permits from all cognizant authorities;

(8) Mooring: Discuss the approach to be proposed for the mooring plan for the vessel(s) used as a static public display, including location, design, and mooring system in accordance with U.S. Coast Guard (USCG) requirements;

(9) Towing: Discuss the approach to be proposed for relocating the vessels from their current location to the proposed permanent berth location in conformance with the Navy Tow Manual and USCG requirements;

(10) Maintenance: Discuss the challenges in restoring and preserving for an infinite period the steel-hulled vessel(s) proposed as a ship museum/memorial; and

(11) Curatorial/Museum: Discuss the approach to be proposed for display and interpretation of the vessel(s) used as a static public display, including collection management procedures.

The Phase I documentation (Letter of Intent and Executive Summary) must be submitted to the Navy Inactive Ships Program in hard copy and electronically on a CD-ROM in either an MS Word document or word searchable PDF format. The Phase I documentation must be mailed to: The Columbia Group, 1201 M Street, SE., Suite 020, Washington, DC 20003; marked for the Ship Donation Project Manager (PMS 333). Applicants are discouraged from photocopying, cutting and pasting, and generally providing information which is easily accessible via the Internet and/or is already in the public domain. Original content which is specific to the vessels being donated is of greatest importance to the evaluators.

If the DoN does not receive satisfactory Phase I documentation (Letter of Intent and Executive Summary) from any applicant, the DoN reserves the right to enter into discussions with all applicants in an effort to achieve at least one acceptable submission; or remove the vessels from donation consideration and proceed with disposal of the vessels.

Note that any future changes to guidelines, policy, and law will be reflected in the guidance published on the DoN Ship Donation Web page located at: http://teamships.crane.navy.mil/Inactiveships/Donation. Guidance and requirements posted on the Ship Donation Web page shall take precedence over the contents of the Federal Register notice. Applicants are advised to read and follow the Web page guidance for the most current set of ship donation requirements.

For Further Information and Submission of Ship Donation Applications, Contact: Ms. Elizabeth Freese of the Naval Sea Systems Command, Navy Inactive Ships Program (PMS 333), telephone number 202-781-4423. Mailed correspondence should be addressed to: The Columbia Group, 1201 M Street, SE., Suite 020, Washington, DC 20003; marked for Ship Donation Project Manager (PMS 333).

Dated: May 26, 2009.
A.M. Vallandingham,
Lieutenant Commander, Judge Advocate General's Corps, U.S. Navy, Federal Register Liaison Officer.

[FR Doc. E9-12710 Filed 6-1-09; 8:45 am]

BILLING CODE 3810-FF-P